DEPARTMENT OF COMMERCE

International Trade Administration

[A-428-831]

Notice of Amended Preliminary Determination of Sales at Less Than Fair Value: Structural Steel Beams From Germany

AGENCY: Import Administration, International Trade Administration, Department of Commerce.

ACTION: Notice of amended preliminary antidumping duty determination of sales at less than fair value: structural steel beams from Germany.

EFFECTIVE DATE: January 31, 2002.

FOR FURTHER INFORMATION CONTACT: Thomas Schauer or Edythe Artman, Import Administration, International Trade Administration, U.S. Department of Commerce, 14th Street and Constitution Avenue, NW., Washington, DC 20230; telephone: (202) 482-0410 or (202) 482-3931, respectively.

The Applicable Statute and Regulations

Unless otherwise indicated, all citations to the statute are references to the provisions effective January 1, 1995, the effective date of the amendments made to the Tariff Act of 1930 (the Act) by the Uruguay Round Agreements Act (URAA). In addition, unless otherwise indicated, all citations to the Department of Commerce's (the Department's) regulations are to the provisions codified at 19 CFR part 351 (2001).

Significant Ministerial Error

The Department of Commerce (the Department) is amending the preliminary determination of sales at less than fair value in the antidumping duty investigation of structural steel beams from Germany to reflect the correction of a significant ministerial error made in the margin calculations regarding Stahlwerk Thüringen GmbH (“SWT”) in that determination, pursuant to 19 CFR 341.224(g)(1) and (g)(2). A ministerial error is defined as an error in addition, subtraction, or other arithmetic function, clerical error resulting from inaccurate copying, duplication, or the like, and any other similar type of unintentional error which the Secretary considers ministerial. See 19 CFR 351.224(f). A significant ministerial error is defined as an error, the correction of which, singly or in combination with other errors, would result in (1) a change of at least five absolute percentage points in, but not less than 25 percent of, the weighted-average dumping margin calculated in the original (erroneous) preliminary determination; or (2) a difference between a weighted-average dumping margin of zero or de minimis and a weighted-average dumping margin of greater than de minimis or vice versa. See 19 CFR 351.224(g). In this case, correction of the ministerial error results in SWT's margin becoming de minimis. We are publishing this amendment to the preliminary determination pursuant to 19 CFR 351.224(e). As a result of this amended preliminary determination, we have revised the antidumping rates for one respondent, SWT.

Scope of Investigation

The scope of this investigation covers doubly-symmetric shapes, whether hot-or cold-rolled, drawn, extruded, formed or finished, having at least one dimension of at least 80 mm (3.2 inches or more), whether of carbon or alloy (other than stainless) steel, and whether or not drilled, punched, notched, painted, coated, or clad. These structural steel beams include, but are not limited to, wide-flange beams (“W” shapes), bearing piles (“HP” shapes), standard beams (“S” or “I” shapes), and M-shapes. All the products that meet the physical and metallurgical descriptions provided above are within the scope of this investigation unless otherwise excluded. The following products are outside and/or specifically excluded from the scope of this investigation: (1) Structural steel beams greater than 400 pounds per linear foot, (2) structural steel beams that have a web or section height (also known as depth) over 40 inches, and (3) structural steel beams that have additional weldments, connectors or attachments to I-sections, H-sections, or pilings; however, if the only additional weldment, connector or attachment on the beam is a shipping brace attached to maintain stability during transportation, the beam is not removed from the scope definition by reason of such additional weldment, connector or attachment.

The merchandise subject to this investigation is classified in the Harmonized Tariff Schedule of the United States (“HTSUS”) at subheadings 7216.32.0000, 7216.33.0030, 7216.33.0060, 7216.33.0090, 7216.50.0000, 7216.61.0000, 7216.69.0000, 7216.91.0000, 7216.99.0000, 7228.70.3040, and 7228.70.6000. Although the HTSUS subheadings are provided for convenience and customs purposes, the written description of the merchandise under investigation is dispositive.

Ministerial-Error Allegation

On December 19, 2001, the Department issued its affirmative preliminary determination in this proceeding. See Notice of Preliminary Determination of Sales at Less Than Fair Value and Postponement of Final Determination: Structural Steel Beams from Germany, 66 FR 67190 (December 28, 2001) (Preliminary Determination). There are two respondent manufacturers/exporters, SWT and Salzgitter AG, in this investigation.

On January 2, 2002, the Department received timely allegations of a ministerial error (in accordance with section 351.224(c)(2) of the Department's regulations) in the Preliminary Determination from SWT. SWT alleged that the Department inadvertently did not convert quantity adjustments for U.S. sales from pounds to metric tons. On January 7, 2002, the Department received timely allegations of ministerial errors (in accordance with 351.224(c)(2)) in the Preliminary Determination from the Committee for Fair Beam Imports and its individual members, Northwestern Steel and Wire Company, Nucor Corporation, Nucor-Yamato Steel Company, and TXI-Chaparral Steel Company (“the petitioners”). The petitioners alleged that (1) the Department's language for converting quantities denominated in pounds to metric tons is superfluous and (2) the Department's calculation of indirect selling expenses is incorrect because, according to the petitioners, the Department attempted to correct for double-counting where none exists.

The Department has reviewed its preliminary calculations and agrees that the error which SWT alleged does constitute a ministerial error within the meaning of 19 CFR 351.224(f). Furthermore, we determine that this is a ministerial error which rises to the level of “significant errors” pursuant to 19 CFR 351.224(g)(2), and we are amending the Preliminary Determination to reflect the correction of this significant ministerial error made in the margin calculation for SWT in that determination, pursuant to 19 CFR 351.224(e). See the SWT Amended Preliminary Calculation Memorandum dated January 15, 2002.

The Department does not agree that the errors which the petitioners alleged constitute ministerial errors within the meaning of 19 CFR 351.224(f). The first “error” alleged by the petitioners does not appear to be an error at all but, rather, simply a suggestion to change the programming language. The petitioners suggested language would have no effect on the margin. The second error is a comment about our methodology for calculating indirect selling expenses. Because the methodology we used (described accurately by the petitioners) was neither inadvertent nor unintentional, this is not a ministerial error. Therefore, we have not changed our preliminary calculations pursuant to either of the petitioners' allegations.

The collection of bonds or cash deposits and suspension of liquidation will be revised accordingly and parties will be notified of this determination, in accordance with section 733(d) and (f) of the Act.

Amended Preliminary Determination

As a result of our correction of the ministerial error, we have determined that the following dumping margins apply. In accordance with section 733(d)(2) of the Act, we are directing the Customs Service to suspend liquidation of all imports of subject merchandise from Germany, except for subject merchandise produced and exported by SWT (which has a de minimis weighted-average margin), that are entered, or withdrawn from warehouse, for consumption on or after the date of publication of this notice in the Federal Register. We will instruct the Customs Service to require a cash deposit or the posting of a bond equal to the weighted-average amounts as indicated in the chart below. These suspension-of-liquidation instructions will remain in effect until further notice.

Exporter/manufacturer | Weighted-average percentage margin
SWT | 0.96
Salzgitter AG | 35.75
All Others | 18.36

Pursuant to section 733(d)(1)(A) and section 735(c)(5)(A) of the Act, the Department normally may not include zero and de minimis weighted-average dumping margins and margins determined entirely under section 776 of the Act in the calculation of the “all-others” deposit rate. However, such rates were the only margins available in this determination. Accordingly, the Department may, pursuant to section 735(c)(5)(B) of the Act, use “any reasonable method” to calculate the all-others rate. In this case, the Department calculated the all-others rate by using a simple average of the rates applicable to SWT and Salzgitter AG. See Statement of Administrative Action accompanying H.R. 5110, H.R. Doc. No. 316, Vol. 1, 103rd Congr. 2d Sess. at 873.

International Trade Commission Notification

In accordance with section 733(f) of the Act, we have notified the ITC of our amended preliminary determination. If our final determination is affirmative, the ITC will determine before the later of 120 days after the date of the preliminary determination or 45 days after our final determination whether the domestic industry in the United States is materially injured, or threatened with material injury, by reason of imports, or sales (or the likelihood of sales) for importation, of the subject merchandise.

Public Comment

Case briefs for this investigation must be submitted to the Department no later than seven days after the date of the final verification report issued in this proceeding. Rebuttal briefs must be filed five days from the deadline date for case briefs. A list of authorities used, a table of contents, and an executive summary of issues should accompany any briefs submitted to the Department. Executive summaries should be limited to five pages total, including footnotes. Section 774 of the Act provides that the Department will hold a public hearing to afford interested parties an opportunity to comment on arguments raised in case or rebuttal briefs, provided that such a hearing is requested by an interested party. If a request for a hearing is made in this investigation, the hearing will tentatively be held two days after the rebuttal-brief deadline date at the U.S. Department of Commerce, 14th Street and Constitution Avenue, NW., Washington, DC 20230. Parties should confirm by telephone the time, date, and place of the hearing 48 hours before the scheduled time.

We will make our final determination no later than May 13, 2001.

This determination is issued and published in accordance with sections 733(f) and 777(i)(1) of the Act and 19 CFR 351.205(c).

Dated: January 24, 2002.
Faryar Shirzad,
Assistant Secretary for Import Administration.

[FR Doc. 02-2413 Filed 1-30-02; 8:45 am]

BILLING CODE 3510-DS-P